DEPARTMENT OF TRANSPORTATION

Federal Aviation Administration

14 CFR Part 71

[Docket FAA 2004-16896; Airspace Docket 02-ANM-08]

Revision of Class E Airspace; Blanding, UT

AGENCY: Federal Aviation Administration (FAA), DOT.

ACTION: Final rule.

SUMMARY: This final rule will revise Class E airspace at Blanding, UT. This additional Class E airspace is necessary to accommodate the new Area Navigation (RNAV) Global Positioning System (GPS) Standard Instrument Approach Procedure (SIAP) at Blanding Airport. This change will improve the safety of Instrument Flight Rules (IFR) aircraft executing the new RNAV GPS SIAP at Blanding Airport, Blanding, UT.

DATES: Effective Date: 0901 UTC, July 07, 2005.

FOR FURTHER INFORMATION CONTACT: Ed Haeseker, Federal Aviation Administration, Air Traffic Organization, Western En Route and Oceanic Area Office, Airspace Branch, 1601 Lind Avenue SW., Renton, Washington 98055-4056; telephone (425) 227-2527.

SUPPLEMENTARY INFORMATION:

History

On February 03, 2004, the FAA proposed to amend Title 14 Code of Federal Regulations part 71 (CFR part 71) by modifying Class E airspace at Blanding, UT, (69 FR 5097). The proposed action would provide additional controlled airspace to accommodate the new RNAV GPS SIAP at Blanding Airport, Blanding, UT.

Interested parties were invited to participate in this rule making proceeding by submitting written comments on the proposal to the FAA. No comments were received. Class E airspace designations are published in paragraph 6005 of FAA Order 7400.9M dated August 30, 2004, and effective September 16, 2004, which is incorporated by reference in 14 CFR part 71.1. The Class E airspace designations listed in this document will be published subsequently in that order.

The Rule

This amendment to 14 CFR part 71 revises Class E airspace at Blanding, UT by providing additional controlled airspace for aircraft executing the new RNAV GPS SIAP at Blanding Airport. This additional controlled airspace extending upward from 1200 feet above the surface of the earth is necessary for the containment and safety of IFR aircraft executing these SIAP procedures and transitioning to/from the en route environment.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9M, Airspace Designations and Reporting Points, dated August 30, 2004 and effective September 16, 2004, is amended as follows:

Paragraph 6005 Class E airspace areas extending upward from 700 feet or more above the surface of the earth.

* * * * *

ANM UT E5 Blanding, UT [Revised]

Blanding Municipal Airport, Blanding, UT

(Lat. 37°34′59″ N., long. 109°29′00″ W.)

That airspace extending upward from 1,200 feet above the surface of the earth bounded by a line beginning at lat. 37°42′00″ N., long. 109°42′00″ W.; to lat. 37°42′00″ N., long. 109°20′30″ W.; to lat. 37°52′18″ N., long. 108°58′58″ W.; to Dove Creek VOR (DVC); to Cortez VOR (CEZ); to lat. 36°48′30″ N., long. 108°03′30″ W.; to lat. 36°41′30″ N., long. 108°09′15″ W.; to lat. 36°55′30″ N., long. 109°16′15″ W.; to lat. 36°26′45″ N., long. 109°36′30″ W.; to lat. 36°27′30″ N., long. 109°46′45″ W.; thence to point of origin; excluding that airspace within Federal airways airspace area and previously established Class E airspace 700 feet above the surface of the earth.

* * * * *

Issued in Seattle, Washington, on April 1, 2005.
Raul C. Treviño,
Area Director, Western En Route and Oceanic Operations.

[FR Doc. 05-7623 Filed 4-15-05; 8:45 am]

BILLING CODE 4910-13-M